DEPARTMENT OF COMMERCE

National Oceanic and Atmospheric Administration

50 CFR Part 660

[I.D. 060606A]

RIN 0648-AU12

Fisheries Off West Coast States; Notice of Availability of Amendment 18 to the Pacific Coast Groundfish Management Plan

AGENCY: National Marine Fisheries Service (NMFS), National Oceanic and Atmospheric Administration (NOAA), Commerce.

ACTION: Availability of an amendment to a fishery management plan; request for comments.

SUMMARY: NMFS announces that the Pacific Fishery Management Council (Council) has submitted Amendment 18 to the Pacific Coast Groundfish Fishery Management Plan (FMP) for Secretarial review. Amendment 18 would modify the FMP to implement a bycatch minimization program for the Pacific coast groundfish fisheries. Amendment 18 is intended to respond to court orders in to establish a bycatch minimization program in the FMP.

DATES: Comments on Amendment 18 must be received on or before August 8, 2006.

ADDRESSES: You may submit comments, identified by I.D number 060606A by any of the following methods:

• E-mail: Amendment18.nwr@noaa.gov. Include the I.D. number in the subject line of the message.

• Federal eRulemaking Portal: http://www.regulations.gov. Follow the instructions for submitting comments.

• Fax: 206-526-6736, Attn: Yvonne deReynier.

• Mail: D. Robert Lohn, Administrator, Northwest Region, NMFS, Attn: Yvonne deReynier, 7600 Sand Point Way NE, Seattle, WA 98115-0070.

FOR FURTHER INFORMATION CONTACT: Yvonne deReynier (Northwest Region, NMFS), phone: 206-526-6129; fax: 206-526-6736; and e-mail: yvonne.dereynier@noaa.gov.

SUPPLEMENTARY INFORMATION: Electronic Access: This Federal Register document is also accessible via the internet at the website of the Office of the Federal Register: http://www.access.gpo.gov/su-docs/aces/aces140.html.

The Magnuson-Stevens Fishery Conservation and Management Act (Magnuson-Stevens Act) requires that each regional fishery management council submit any FMP or plan amendment it prepares to NMFS for review and approval, disapproval, or partial approval. The Magnuson-Stevens Act also requires that NMFS, upon receiving an FMP or amendment, immediately publish a notice that the FMP or amendment is available for public review and comment. NMFS will consider the public comments received during the comment period described above in determining whether to approve Amendment 18 to the FMP.

Amendment 18 would modify the FMP to implement a bycatch minimization program. Over the past several years, the Council and NMFS have managed the groundfish fisheries with a broad suite of bycatch minimization policies that would be formally organized and brought into the FMP through Amendment 18. This FMP amendment would also set the Council's future plans for bycatch minimization programs into the FMP to provide comprehensive direction for its current and future bycatch minimization efforts in Pacific Coast groundfish fishery management. Amendment 18 is intended to respond to court orders in Pacific Marine Conservation Council v. Evans, 200 F.Supp.2d 1194 (N.D. Calif. 2002) to establish a bycatch minimization program in the FMP. NMFS has previously complied with the court's orders from this same case under Amendment 16-1 to the FMP, in which it established a standardized bycatch reporting methodology as a required element of the FMP. Regulations to implement Amendment 18 would, among other measures: require species co-occurrence ratios to be used in setting trip limits and other management measures; authorize the use of area closures as routine management measures to protect all species, not just overfished species; and, require vessels that participate in open access groundfish fisheries to carry observers when directed by NMFS.

NMFS welcomes comments on the proposed FMP amendment through the end of the comment period. A proposed rule to implement Amendment 18 has been submitted for Secretarial review and approval. NMFS expects to publish and request public review and comment on proposed regulations to implement Amendment 18 in the near future. Public comments on the proposed rule must be received by the end of the comment period on the amendment to be considered in the approval/disapproval decision on the amendment. All comments received by the end of the comment period for the amendment, whether specifically directed to the amendment or the proposed rule, will be considered in the approval/disapproval decision.

Authority: 16 U.S.C. 1801 et seq.

Dated: June 6, 2006.
Alan D. Risenhoover,
Acting Director, Office of Sustainable Fisheries, National Marine Fisheries Service.

[FR Doc. E6-9027 Filed 6-8-06; 8:45 am]

BILLING CODE 3510-22-S